DEPARTMENT OF ENERGY

Federal Energy Regulatory Commission

[Docket No. CP18-544-000]

Columbia Gas Transmission, LLC; Notice of Application

Take notice that on September 5, 2018, Columbia Gas Transmission, LLC, (Columbia), filed an application in Docket No. CP18-544-000 pursuant to Section 7(c) of the Natural Gas Act and Part 157.17 of the Commission's Regulations, seeking the issuance of a temporary certificate authorizing the installation of temporary compression at its Petersburg Compressor Station in Prince George County, Virginia (Station), in order to maintain uninterrupted service to its customers during an unanticipated outage of existing compression due to emergency restoration activities required at the Station site.

Columbia states that subsidence due to poor soil conditions has resulted in foundation damage as well as the unsafe buildup of stresses on Station piping that presents safety and reliability risks if further settlement is not prevented. Columbia states that its plan to stabilize further settlement and to repair the Station foundation and piping will require a six-to-eight month full Station outage. In order to begin the remedial measures, Columbia plans to temporarily install four leased 1,380 horsepower (hp) compressors approximately 250 feet northeast of the Station which will allow the existing compressors to be taken off line during restoration activities. The cost of the temporary compression, including installation, operation, and removal, is approximately $7.6 million.

Columbia further states that its customers, including the City of Norfolk, Virginia and the CALP Power Plant, are dependent on the Station compression for their natural gas service and therefore an in-service date of November 1, 2018 is needed for the temporary compression in order to maintain uninterrupted service during the 2018-2019 winter heating season. Therefore, the Commission will require a shortened notice period until September 25, 2018 for this proceeding.

The filing may be viewed on the web at http://www.ferc.gov using the eLibrary link. Enter the docket number excluding the last three digits in the docket number field to access the document. For assistance, contact FERC at FERCOnlineSupport@ferc.gov or call toll-free, (886) 208-3676 or TYY, (202) 502-8659.

Any questions regarding this application should be directed to Sorana Linder, Director, Modernization & Certificates, Columbia Gas Transmission, LLC, 700 Louisiana Street, Suite 700, Houston, TX 77002-2700 or at phone (832) 320-5209, or via email at Sorana_linder@transcanada.com.

There are two ways to become involved in the Commission's review of this project. First, any person wishing to obtain legal status by becoming a party to the proceedings for this project should, on or before the comment date stated below, file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the eFiling link at http://www.ferc.gov. Persons unable to file electronically should submit an original and 7 copies of the protest or intervention to the Federal Energy Regulatory Commission, 888 First Street NE, Washington, DC 20426.

Comment Date: September 25, 2018

Dated: September 11, 2018.
Kimberly D. Bose,
Secretary.

[FR Doc. 2018-20100 Filed 9-14-18; 8:45 am]

BILLING CODE 6717-01-P